Proclamation 8017 of May 12, 2006

National Safe Boating Week, 2006

By the President of the United States of America

A Proclamation

By providing an opportunity to experience our Nation's scenic waterways, recreational boating is one of our country's most popular activities. During National Safe Boating Week, we underscore the importance of taking safety precautions before going out on the water and encourage all Americans to make responsible decisions while boating.

This year marks the 35th anniversary of the enactment of the Federal Boat Safety Act, which has helped reduce the number of recreational boating deaths in our country. Yet despite significant progress, recreational boating accidents still occur and, tragically, the majority of them are preventable. Operator inattention and inexperience, careless and reckless navigation, and excessive speed are the leading contributing factors of all reported accidents. An estimated 70 percent of reported boating fatalities in 2004 occurred on boats where the operator had not received safety instruction, and of those victims who drowned, nearly 90 percent were not wearing life jackets.

America's boat owners and operators play a large role in helping ensure passenger safety. The United States Coast Guard initiative “You're in Command” serves to educate boaters about how to enjoy our Nation's waters safely and responsibly. For more information about being safe while on the water, boaters can visit uscgboating.org and safeboatingcampaign.com. By taking simple precautions such as wearing a life jacket, taking a boating safety course, getting a Vessel Safety Check, and never boating under the influence of alcohol or drugs, we can continue to save lives and reduce the number of accidents and injuries that occur each year.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 20 through May 26, 2006, as National Safe Boating Week. I encourage the Governors of the 50 States and the Commonwealth of Puerto Rico, and officials of other areas subject to the jurisdiction of the United States, to join in observing this week. I also urge all Americans to learn more about safe boating practices and always engage in proper and responsible conduct while on the water.

IN WITNESS WHEREOF, I have hereunto set my hand this twelfth day of May, in the year of our Lord two thousand six, and of the Independence of the United States of America the two hundred and thirtieth.

B

[FR Doc. 06-4665

Filed 5-16-06; 8:45 am]

Billing code 3195-01-P